Proclamation 9458 of May 31, 2016

National Caribbean-American Heritage Month, 2016

By the President of the United States of America

A Proclamation

The dynamism and diversity of Caribbean Americans have contributed to our Nation's story in extraordinary ways. Millions of people in the United States are connected to our Caribbean neighbors through ties of commerce and family—a relationship reinforced by the values and history we hold in common. During National Caribbean-American Heritage Month, we celebrate the contributions of our Caribbean-American brothers and sisters, and we reflect on how they have bolstered our country and enriched our traditions.

The bonds between the United States and the Caribbean remain strong. Both rooted in similar legacies—of trial and triumph, oppression and liberation—our narratives have advanced on a similar path of progress, driven forward by our shared dedication to fostering opportunity and forging a brighter future. Caribbean Americans excel in our universities, inspire us as athletes and musicians, guide us as community and government leaders, and keep us safe through dedicated service in our Armed Forces.

The United States is committed to working with the nations of the Caribbean to advance security, liberty, and prosperity. That is why we have begun a new chapter in our relationship with Cuba—extending a new hand of friendship to the Cuban people that offers fresh hope for both our futures and will improve the lives of those living in both our countries. My Administration also introduced the 100,000 Strong in the Americas initiative to provide higher education exchanges to students across the Western Hemisphere, and we launched the Young Leaders of the Americas Initiative to address persistent opportunity gaps in the Americas and to give emerging entrepreneurs and civil society leaders the resources they need to reach their full potential. In harnessing the spirit and boldness of young people in the Caribbean and throughout the Americas, and in channeling their creativity and innovation, we can continue to build on the progress we have made. And by carrying out Jamaican-American poet Claude McKay's call to “strive on to gain the height although it may not be in sight,” we can enable more young people, here at home and throughout the Caribbean, to reach for the change that is within their grasp.

The legacy of Caribbean Americans is one of tenacity and drive; it reminds us that in America, with faith and determination, anything is possible. This month, let us honor the resilient heritage and rich history of Caribbean Americans, and let us reflect upon the diversity of experiences that unites us as a people.

NOW, THEREFORE, I, BARACK OBAMA, President of the United States of America, by virtue of the authority vested in me by the Constitution and the laws of the United States, do hereby proclaim June 2016 as National Caribbean-American Heritage Month. I encourage all Americans to celebrate the history and culture of Caribbean Americans with appropriate ceremonies and activities.

IN WITNESS WHEREOF, I have hereunto set my hand this thirty-first day of May, in the year of our Lord two thousand sixteen, and of the Independence of the United States of America the two hundred and fortieth.

[FR Doc. 2016-13363

Filed 6-2-16; 11:15 am]

BILLING CODE 3295-F6-P